DEPARTMENT OF AGRICULTURE

Forest Service

Ravalli County Resource Advisory Committee

AGENCY: Forest Service, USDA.

ACTION: Notice of meetings.

SUMMARY: The Ravalli County Resource Advisory Committee will be meeting every fourth Tuesday of the month from January 2009 through November 2009. The meetings are being held pursuant to the authorities in the Federal Advisory Committee Act (Pub. L. 110-343) and under the Secure Rural Schools and Community Self-Determination Act of 2000 (Pub. L. 110-343). The meetings are open to the public.

DATES: The meeting will be held on every fourth Tuesday of each month starting from January 2009 through November 2009, at 6:30 p.m.

ADDRESSES: The meeting will be held at the Bitterroot National Forest, 1801 N, First, Hamilton, MT access by the back door. Send written comments to Daniel Ritter, District Ranger, Stevensville Ranger District, 88 Main Street, Stevensville, MT 59870, by facsimile (406) 777-7423, or electronically to dritter@fs.fed.us.

FOR FURTHER INFORMATION CONTACT: Daniel Ritter, Stevensville District Ranger and Designated Federal Officer, Phone: (406) 777-5461.

Dated: January 6, 2009.
Julie King,
Deputy Forest Supervisor.

[FR Doc. E9-448 Filed 1-12-09; 8:45 am]

BILLING CODE 3410-11-M